DEPARTMENT OF ENERGY

Federal Energy Regulatory Commission

[Docket No. PF08-7-000]

Liberty Gas Storage, LLC; Notice of Intent To Prepare an Environmental Assessment for the Proposed Liberty Gas Storage Expansion Project and Request for Comments on Environmental Issues

February 28, 2008.

The staff of the Federal Energy Regulatory Commission (FERC or Commission) will prepare an environmental assessment (EA) that will describe the environmental impacts of constructing and operating the Liberty Gas Storage, LLC's (Liberty) proposed Liberty Gas Storage Expansion Project (Project) located in Cameron and Calcasieu Parishes, Louisiana. The FERC will be the lead federal agency in the preparation of this EA which will satisfy the requirements of the National Environmental Policy Act (NEPA) and will be used by the FERC to consider the environmental impacts that could result if the Commission issues Liberty a Certificate of Public Convenience and Necessity (Certificate) under Section 7 of the Natural Gas Act.

This notice announces the beginning of the scoping process¹ we will use to gather input from the public and interested agencies about the proposed Project. Your input will help the Commission staff determine which issues need to be evaluated in the EA. Please note that the scoping period will close on March 28, 2008.

¹ The National Environmental Policy Act requires the Commission to undertake a process to identify and address concerns the public may have about a proposed project. This process is commonly referred to as the “scoping process”.

This notice is being sent to affected landowners; federal, state, and local government representatives and agencies; environmental and public interest groups; Native American tribes; other interested parties in this proceeding; and local libraries and newspapers. We encourage government representatives to notify their constituents of this proposed project and encourage them to comment on their areas of concern.

If you are a landowner receiving this notice, you may be contacted by a Liberty representative about the acquisition of an easement to construct, operate, and maintain facilities necessary for the proposed Project. Liberty would seek to negotiate a mutually acceptable agreement. However, if the Project is approved by the Commission, that approval conveys with it the right of eminent domain. Therefore, if easement negotiations fail to produce an agreement, Liberty could initiate condemnation proceedings in accordance with state law.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Summary of the Proposed Project

Liberty is proposing to construct and operate a new natural gas storage facility on an existing 159.5-acre industrial site, west of Hackberry, in Cameron Parish, Louisiana. The proposed facility would primarily consist of: Four salt dome caverns capable of storing approximately a total of 24 billion cubic feet of natural gas; an 18,940 horsepower compressor station; and an approximately 5.2-mile-long, 36-inch-diameter natural gas pipeline. Specifically, Liberty is seeking authority to:

• Convert three existing salt dome caverns and develop one new salt dome cavern for natural gas storage;

• Install groundwater supply wells and pipelines;

• Construct a brine pumping system and reservoir;

• Construct a compressor station containing four natural gas driven reciprocating compressors;

• Utilize construction staging areas and access roads; and

• Construct other minor natural gas facilities associated with storage cavern development, compressor station and pipeline operation.

Liberty is also seeking authority to construct:

• An approximately 5.2-mile-long, 36-inch-diameter natural gas pipeline, beginning at the proposed storage facility site, heading northeast through Black Lake, and connecting to the Cameron Interstate Pipeline in Calcasieu Parish;

• One meter station;

• Four brine disposal wells at an off-site location; and

• An approximately 3.0-mile-long, 16-inch-diameter brine disposal pipeline, beginning at the proposed storage facility site and heading southeast to the proposed disposal wells.

Additionally, Liberty is proposing to:

• Utilize a nominal 100-foot-wide right-of-way (ROW) for construction of the proposed approximately 5.2-mile-long, 36-inch-diameter natural gas pipeline (Liberty has also indicated that pipeline construction through Black Lake would require the use of a significantly wider construction ROW);

• Utilize a nominal 65-foot-wide ROW for construction of the proposed approximately 3.0-mile-long, 16-inch-diameter brine disposal pipeline; and

• Utilize permanent rights-of-way, 50 and 30 feet wide, for maintenance of the natural gas and brine disposal pipelines, respectively.

A general map of the proposed facilities is provided in Appendix 1.²

² The appendices referenced in this notice are not being printed in the Federal Register. Copies of all appendices, other than Appendix 1, are available on the Commission's Web site or from the Commission's Public Reference Room, 888 First Street, NE., Washington, DC 20426, (202) 502-8371.

Land Requirements for Construction

Construction of the proposed facilities including workspace, staging yards, and access roads would require the temporary use of approximately 336 acres of land. Operation and maintenance of the proposed facilities would require the permanent use of approximately 32 acres of land. Land affected by construction, but not required for operation and maintenance would be restored and allowed to revert to its former use.

The Environmental Review and Assessment Processes

The Commission's staff has initiated a pre-filing environmental review of Liberty's proposed project. The purpose of the pre-filing environmental review is to identify and resolve potential environmental issues prior to the submission of an application for a Certificate by Liberty. During a pre-filing environmental review, the public is encouraged to comment on environmental issues related to the proposed Project.

Upon completion of staff's pre-filing environmental review, Liberty has indicated that it would file an application for a Certificate. Based upon the pre-filing environmental review, and Liberty's application; staff, will prepare the EA.

The EA will discuss the environmental impacts resulting from the construction and operation of the proposed Project under the following headings:

• Geology and Soils

• Water Resources and Wetlands

• Fisheries, Vegetation and Wildlife

• Threatened and Endangered Species

• Air and Noise Quality

• Land Use

• Cultural Resources

• Pipeline Safety and Reliability

The Commission's staff will also evaluate possible alternatives to the proposed Project including system and route alternatives and make recommendations on how to lessen or avoid impacts to affected environmental resources.

As noted previously, the NEPA requires the Commission to undertake a process to identify and address concerns the public may have about a proposed project. This process is commonly referred to as the “scoping process”. The main goal of the scoping process is to identify public concerns so that they can be considered in the Commission's environmental review. Therefore, to satisfy scoping requirements, with this notice, the Commission requests comments on environmental issues that should be considered in its environmental review and assessment. To ensure your comments are considered, please carefully follow the instructions in the public participation section of this notice.

Upon completion of the staff's environmental review and depending on the issues identified and/or comments received during the “scoping” process, the EA may be published and mailed to federal, state and local government agencies; elected officials; environmental and public interest groups; affected landowners; other interested parties; local libraries and newspapers; and the Commission's official service list for this proceeding. A 30-day comment period would be allotted for review of the EA if it is published. Staff would consider all comments submitted concerning the EA before making their recommendations to the Commission.

Federal, state, or local agencies wishing to participate in staff's environmental review and the subsequent development of an EA may request “cooperating agency” status. Cooperating agencies are encouraged to participate in the scoping process and provide staff with written comments concerning the proposed Project. Agencies wanting to participate as a cooperating agency should submit a letter to the Commission describing the extent to which it would like to be involved.

Currently Identified Environmental Issues

The Commission's staff has already identified numerous environmental issues it thinks deserves consideration based on its review of preliminary information submitted by Liberty. These issues include potential impacts to:

• Land use;

• Residences;

• Groundwater;

• Wetlands; and

• Wildlife.

Public Participation

You can make a difference by providing us with your specific comments or concerns about the proposed Project. By becoming a commentor, your comments and concerns will be considered in the environmental review, addressed in the EA and considered by the Commission. Generally, comments are submitted regarding potential environmental effects, reasonable alternatives, and measures to avoid or lessen environmental impact. The more specific your comments, the more useful they will be. To ensure that your comments are properly recorded, please mail them to our office on or before March 28, 2008. When filing comments please:

• Send an original and two copies of your letter to:

Kimberly D. Bose, Secretary, Federal Energy Regulatory Commission, 888 First St., NE., Room 1A, Washington, DC 20426.

• Label one copy of your comments to the attention of Gas Branch 2, DG2E; and reference Pre-Filing Docket No. PF08-7-000 on the original and both copies.

Please note that the Commission encourages the electronic filing of comments. To file electronic comments online please see the instructions ³ on the Commission's Web site at http://www.ferc.gov. Please note before you can file electronic comments with the Commission you will need to create a free online account.

³ 18 Code of Federal Regulations 385.2001(a)(1)(iii).

Once Liberty files an application for a Certificate with the Commission, a stakeholder may choose to become an official party to the proceeding known as an “intervenor.” Intervenors are allotted a more formal role in the process and are able to file briefs, appear at hearings, and be heard by the courts if they choose to appeal the Commission's final ruling. Instructions for becoming an intervenor are available on the Commission's Web site. Please note that requests to intervene will not be accepted until an application for a Certificate is filed with the Commission.

Environmental Mailing List

An effort has been made to send this notice to all individuals, organizations, and government entities that might be interested in and/or potentially affected by the proposed Project. This includes all landowners who are potential right-of-way grantors, landowners whose property may be used temporarily for project purposes, and landowners with homes within distances defined in the Commission's regulations of certain aboveground facilities. If you would like to remain on the environmental mailing list for this proposed Project, please return the Mailing List Retention Form found in Appendix 2. If you do not comment on this proposed Project or return this form, you will be removed from the Commission's environmental mailing list.

Availability of Additional Information

Additional information about the proposed Project is available from the Commission's Office of External Affairs at 1-866-208 FERC (3372) or through the Commission's “eLibrary” which can be found online at http://www.ferc.gov. For assistance with the Commission's “eLibrary”, contact the helpline at 1-866-208-3676, TTY (202) 502-8659, or at FERCOnlineSupport@ferc.gov.

Additionally, the FERC now offers a free service called eSubscription that allows stakeholders to keep track of all formal issuances and submittals in specific dockets. This service can reduce the amount of time stakeholders spend researching proceedings by automatically providing them with notification of filings, document summaries, and direct links to documents. To register for this service, go to http://www.ferc.gov/esubscribenow.htm.

If applicable, public meetings or site visits associated with this proposed Project will be posted on the Commission's calendar which can be found online at http://www.ferc.gov/EventCalendar/EventsList.aspx.

Kimberly D. Bose,
Secretary.

[FR Doc. E8-4224 Filed 3-4-08; 8:45 am]

BILLING CODE 6717-01-P